DEPARTMENT OF THE TREASURY

Submission for OMB Review; Comment Request

November 21, 2008.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

Dates: Written comments should be received on or before December 26, 2008, to be assured of consideration.

Internal Revenue Service (IRS)

OMB Number: 1545-1517.

Type of Review: Extension.

Form: 1099-SA.

Title: Distributions From an Archer MSA or Medicare+Choice MSA.

Description: This form is used to report distributions from a medical savings account as set forth in section 220(h).

Respondents: Private Sector.

Estimated Total Burden Hours: 3,618 hours.

OMB Number: 1545-1913.

Type of Review: Extension.

Form: 8892.

Title: Payment of Gift/GST Tax and/or Application for Extension of Time To File Form 709.

Description: Form 8892 was created to serve a dual purpose. First, the form enables taxpayers to request an extension of time to File 709, when they are not filing an individual income tax extension. Second, it serves as a payment voucher for taxpayers, who are filing an individual income tax extension (by Form 4868) and will have a gift tax balance due on Form 709.

Respondents: Individuals or Households.

Estimated Total Burden Hours: 7,200 hours.

OMB Number: 1545-1788.

Type of Review: Extension.

Form: 13013.

Title: Taxpayer Advocacy Panel (TAP) Membership Application Form.

Description: An application to volunteer to serve on the Taxpayer Advocacy Panel, and advisory panel to the IRS.

Respondents: Individuals or Households.

Estimated Total Burden Hours: 525 hours.

OMB Number: 1545-1414.

Type of Review: Extension.

Form: 8846.

Title: Credit for Employer Social Security and Medicare Taxes Paid on Certain Employee Tips.

Description: Employers in food or beverage establishments where tipping is customary can claim an income tax credit for the amount of social security and Medicare taxes paid (employer's share) on tips, other than tips used to meet the minimum wage requirement.

Respondents: Private Sector.

Estimated Total Burden Hours: 331,452 hours.

OMB Number: 1545-2108.

Type of Review: Extension.

Title: Notice 2008-66—Relief From Certain Low-Income Housing Credit Requirements Due to Severe Storms and Flooding in Missouri (NOT-130705-08).

Description: The Internal Revenue Service is suspending certain requirements under § 42 of the Internal Revenue Code for low-income housing credit projects in the United States to provide emergency housing relief needed as a result of the devastation caused by severe storms and flooding in Missouri beginning on June 1, 2008.

Respondents: Individuals or Households.

Estimated Total Burden Hours: 125 hours.

Clearance Officer: Glenn P. Kirkland (202) 622-3428, Internal Revenue Service, Room 6516, 1111 Constitution Avenue, NW., Washington, DC 20224.

OMB Reviewer: Nicholas A. Fraser (202) 395-5887, Office of Management and Budget, Room 10235, New Executive Office Building, Washington, DC 20503.

Celina Elphage,
Treasury PRA Clearance Officer.

[FR Doc. E8-28231 Filed 11-25-08; 8:45 am]

BILLING CODE 4830-01-P